DEPARTMENT OF TRANSPORTATION

Federal Aviation Administration

[Notice No. NOA-18-01]

Consensus Standards, Light-Sport Aircraft

AGENCY: Federal Aviation Administration, DOT.

ACTION: Notice of availability; request for comments.

SUMMARY: This notice announces the availability of two new and two revised consensus standards relating to the provisions of the Sport Pilot and Light-Sport Aircraft rule issued July 16, 2004, and effective September 1, 2004. ASTM International Committee F37 on Light-Sport Aircraft developed the new and revised standards with Federal Aviation Administration participation. By this notice, the Federal Aviation Administration finds the new and revised standards acceptable for certification of the specified aircraft under the provisions of the Sport Pilot and Light-Sport Aircraft rule.

DATES: Comments must be received on or before December 3, 2018.

ADDRESSES: Mail comments to: Federal Aviation Administration, Small Airplane Standards Branch, Programs and Procedures, AIR-694, Attention: Terry Chasteen, Room 301, 901 Locust, Kansas City, Missouri 64106. Comments may also be emailed to: 9-ACE-AVR-LSA-Comments@faa.gov. Specify the standard being addressed by ASTM designation and title. Mark all comments: Consensus Standards Comments.

FOR FURTHER INFORMATION CONTACT: Terry Chasteen, Light-Sport Aircraft Program Manager, Programs and Procedures, AIR-694, Small Airplane Standards Branch, Aircraft Certification Service, Federal Aviation Administration, 901 Locust, Room 301, Kansas City, Missouri 64106; telephone (816) 329-4147; email: terry.chasteen@faa.gov.

SUPPLEMENTARY INFORMATION: This notice announces the availability of two new and two revised consensus standards that supersede previously accepted consensus standards relating to the provisions of the Sport Pilot and Light-Sport Aircraft rule. ASTM International Committee F37 on Light-Sport Aircraft developed the new and revised standards. The FAA expects a suitable consensus standard to be reviewed periodically. The review cycle will result in a standard revision or reapproval. A standard is revised to make changes to its technical content or is reapproved to indicate a review cycle has been completed with no technical changes. A standard is issued under a fixed designation (e.g., F2245); the number immediately following the designation indicates the year of original adoption or, in the case of revision, the year of last revision. A number in parentheses following the year of original adoption or revision indicates the year of last reapproval. For example, F2242-05(2013) designates a standard that was originally adopted (or revised) in 2005 and reapproved in 2013. A superscript epsilon (ε) indicates an editorial change since the last revision or reapproval. A notice of availability (NOA) will only be issued for new or revised standards. Reapproved standards issued with no technical changes or standards issued with editorial changes only (i.e., superscript epsilon [ε]) are considered accepted by the Federal Aviation Administration (FAA) without need for an NOA.

Comments Invited: Interested persons are invited to submit such written data, views, or arguments as they may desire. Communications should identify the consensus standard number and be submitted to the address specified above. All communications received on or before the closing date for comments will be forwarded to ASTM International Committee F37 for consideration. The standard may be changed in light of the comments received. The FAA will address all comments received during the recurring review of the consensus standard and will participate in the consensus standard revision process.

Background: Under the provisions of the Sport Pilot and Light-Sport Aircraft rule, and revised Office of Management and Budget (OMB) Circular A-119, “Federal Participation in the Development and Use of Voluntary Consensus Standards and in Conformity Assessment Activities,” revised January 27, 2016, industry and the FAA have been working with ASTM International to develop consensus standards for light-sport aircraft. These consensus standards satisfy the FAA's goal for airworthiness certification and a verifiable minimum safety level for light-sport aircraft. Instead of developing airworthiness standards through the rulemaking process, the FAA participates as a member of Committee F37 in developing these standards. The use of the consensus standard process facilitates government and industry discussion and agreement on appropriate standards for the required level of safety.

Comments on Previous Notices of Availability

In the previous NOA issued on March 27, 2017, and published in the Federal Register on April 3, 2017 (82 FR 16271), the FAA asked for public comments on the revised consensus standards accepted by that NOA. The comment period closed on June 2, 2017. No public comments were received.

Consensus Standards in This Notice of Availability

The FAA has reviewed the standards presented in this NOA for compliance with the regulatory requirements of the rule. Any light-sport aircraft issued a special light-sport airworthiness certificate, which has been designed, manufactured, operated, and maintained in accordance with these and previously accepted ASTM consensus standards provides the public with the appropriate level of safety established under the regulations. Manufacturers who choose to produce these aircraft and certificate these aircraft under 14 CFR 21.190 or 14 CFR 21.191 are subject to the applicable consensus standard requirements.

The FAA maintains a listing of the latest FAA-accepted standards specific to special light-sport aircraft and information on previously accepted standards on the following FAA website: http://www.faa.gov/aircraft/gen_av/light_sport/. The FAA also maintains a separate general listing of standards accepted by the FAA that have or may have applicability to other types of certifications. This general listing includes the FAA-accepted standards specific to special light-sport aircraft. A link to this general listing of standards is available on the following FAA website: http://www.faa.gov/aircraft/gen_av/light_sport/.

The Revised Consensus Standard and Effective Period of Use

The following previously accepted consensus standards have been revised, and this NOA is accepting the later revision. Either the previous revision or the later revision may be used for the initial airworthiness certification of special light-sport aircraft until October 3, 2019. This overlapping period of time will allow aircraft that have started the initial airworthiness certification process using the previous revision level to complete that process. After October 3, 2019, manufacturers must use the later revision and must identify the later revision in the Statement of Compliance for initial airworthiness certification of special light-sport aircraft unless the FAA publishes a specific notification otherwise. The following Consensus Standards may not be used after October 3, 2019:

ASTM Designation F2241-14, titled: Standard Specification for Continued Airworthiness System for Powered Parachute Aircraft

ASTM Designation F2295-06, titled: Standard Practice for Continued Operational Safety Monitoring of a Light Sport Aircraft

ASTM Designation F2339-06(2009), titled: Standard Practice for Design and Manufacture of Reciprocating Spark Ignition Engines for Light Sport Aircraft

ASTM Designation F2354-05b(2013), titled: Standard Specification for Continued Airworthiness System for Lighter-Than-Air Light Sport Aircraft

ASTM Designation F2425-05a(2018), titled: Standard Specification for Continued Airworthiness System for Weight-Shift-Control Aircraft

ASTM Designation F2483-12, titled: Standard Practice for Maintenance and the Development of Maintenance Manuals for Light Sport Aircraft

The Consensus Standards

The FAA finds the following new and revised consensus standards acceptable for initial airworthiness certification of the specified aircraft under the provisions of the Sport Pilot and Light-Sport Aircraft rule. The following consensus standards become effective October 3, 2018 and may be used unless the FAA publishes a specific notification otherwise:

ASTM Designation F2339-17, titled: Standard Practice for Design and Manufacture of Reciprocating Spark Ignition Engines for Light Sport Aircraft

ASTM Designation F2483-18 ε, titled: Standard Practice for Maintenance and the Development of Maintenance Manuals for Light Sport Aircraft

ASTM Designation F3198-18, titled: Standard Specification for Light Sport Aircraft Manufacturer's Continued Operational Safety (COS) Program

ASTM Designation F3206-17, titled: Standard Practice for Independent Audit Program for Light Aircraft Manufacturers

Availability

ASTM International, 100 Barr Harbor Drive, Post Office Box C700, West Conshohocken, PA 19428-2959 copyrights these consensus standards. Individual reprints of a standard (single or multiple copies, or special compilations and other related technical information) may be obtained by contacting ASTM at this address, or at (610) 832-9585 (phone), (610) 832-9555 (fax), through service@astm.org (email), or through the ASTM website at www.astm.org. To inquire about standard content and/or membership or about ASTM International Offices abroad, contact Joe Koury, Staff Manager for Committee F37 on Light-Sport Aircraft: (610) 832-9804, jkoury@astm.org.

Issued in Kansas City, Missouri, on September 25, 2018.
Steven W. Thompson,
Acting Manager, Small Airplane Standards Branch, Aircraft Certification Service.

[FR Doc. 2018-21458 Filed 10-2-18; 8:45 am]

BILLING CODE 4910-13-P